DEPARTMENT OF COMMERCE

International Trade Administration

[A-570-900]

Diamond Sawblades and Parts Thereof From the People's Republic of China: Extension of Time Limit for Final Results of the Antidumping Duty Changed Circumstances Review

AGENCY: Import Administration, International Trade Administration, Department of Commerce.

DATES: Effective Date: September 23, 2011.

FOR FURTHER INFORMATION CONTACT: Alan Ray, AD/CVD Operations, Office 9, Import Administration, International Trade Administration, U.S. Department of Commerce, 14th Street and Constitution Avenue, NW., Washington, DC 20230; telephone (202) 482-5403.

Background

On June 30, 2011, the Department of Commerce (“Department”) published in the Federal Register the Preliminary Results of the antidumping duty changed circumstances review of the antidumping duty order on diamond sawblades and parts thereof from the People's Republic of China. See Diamond Sawblades and Parts Thereof From the People's Republic of China: Preliminary Results and Preliminary Intent To Terminate, in Part, Antidumping Duty Changed Circumstances Review and Extension of Time Limit for Final Results, 76 FR 38357 (June 30, 2011) (“Preliminary Results”). Subsequent to the publication of the Preliminary Results, the Department received affirmative and rebuttal comments regarding the Department's preliminary determination. On July 25, 2011, the Department held a hearing in which interested parties presented arguments from their affirmative and rebuttal comments. On August 15, 2011, the Department published a notice in the Federal Register that extended the time limit to issue the final results by 30 days, making the current deadline September 19, 2011. See Diamond Sawblades and Parts Thereof From the People's Republic of China: Extension of Time Limit for Final Results of the Antidumping Duty Changed Circumstances Review, 76 FR 50455 (August 15, 2011).

Extension of Time Limit for the Final Results

The Department finds that it is not practicable to complete this review by the current deadline. The Department has determined that it requires additional time to analyze the case and rebuttal briefs submitted by interested parties. Consequently, in accordance with 19 CFR 351.302(b), the Department is extending the time period for issuing the final results in this review by 15 days. Therefore, the final results will be due no later than October 4, 2011.

We are issuing and publishing this notice in accordance with sections 751(b) and 771(i) of the Tariff Act of 1930, as amended.

Dated: September 19, 2011.
Christian Marsh,
Deputy Assistant Secretary for Antidumping and Countervailing Duty Operations.

[FR Doc. 2011-24559 Filed 9-22-11; 8:45 am]

BILLING CODE 3510-DS-P